INTERNATIONAL TRADE COMMISSION

[Inv. No. 337-TA-414]

In the Matter of Certain Semiconductor Memory Devices and Products Containing Same; Notice of Commission Determination To Grant a Joint Motion To Terminate the Investigation on the Basis of a Settlement Agreement

AGENCY: U.S. International Trade Commission.

ACTION: Notice.

SUMMARY: Notice is hereby given that the U.S. International Trade Commission has determined to grant a joint motion to terminate the above-captioned investigation on the basis of a settlement agreement, and to vacate the final initial determination of the presiding administrative law judge.

FOR FURTHER INFORMATION CONTACT: Tim Yaworski, Esq., Office of the General Counsel, U.S. International Trade Commission, 500 E Street, SW, Washington, DC 20436, telephone (202) 205-3096. Hearing-impaired persons are advised that information on this matter can be obtained by contacting the Commission's TDD terminal on 202-205-1810. General information concerning the Commission may also be obtained by accessing its Internet server (http://www.usitc.gov).

SUPPLEMENTARY INFORMATION: The Commission ordered the institution of this investigation on September 18, 1998, based on a complaint filed on behalf of Micron Technology, Inc., 8000 South Federal Way, Boise, Idaho 83707-0006 (“complainant”). The notice of investigation was published in the Federal Register on September 25, 1998. 63 FR 51372 (1998).

The presiding administrative law judge (“ALJ”) issued his final initial determination (“ID”) on November 29, 1999, concluding that there was no violation of section 337 of the Tariff Act of 1930. On February 1, 2000, the Commission determined to review the final ID in its entirety. The notice of the Commission decision to review the final ID was published in the Federal Register on February 7, 2000. 65 FR 5890 (2000). On February 15, 2000, respondents, complainant, and the Commission investigation attorney (“IA”) filed written submissions on the issues under review. Responsive submissions were filed on February 22, 2000.

On April 4, 2000, complainant Micron and respondents Mosel Vitelic, Inc. and Mosel Vitelic Corp. (collectively “Mosel”) filed a joint motion to terminate the investigation by settlement and vacate the ID. The IA filed a response to the joint motion on April 14, 2000.

The authority for the Commission's determination is contained in section 337 of the Tariff Act of 1930, as amended (19 U.S.C. § 1337), and in sections 210.20 and 210.50 of the Commission's Rules of Practice and Procedure (19 CFR 210.20 and 210.50).

Copies of the public versions of all documents filed in connection with this investigation are or will be available for inspection during official business hours (8:45 a.m. to 5:15 p.m.) in the Office of the Secretary, U.S. International Trade Commission, 500 E Street, SW, Washington, DC 20436, telephone 202-205-2000.

Issued: June 9, 2000.
By order of the Commission.
Donna R. Koehnke,
Secretary.

[FR Doc. 00-15007 Filed 6-13-00; 8:45 am]

BILLING CODE 7020-02-P